DEPARTMENT OF DEFENSE

Office of the Secretary

Extension of Autism Services Demonstration Project for TRICARE Beneficiaries Under the Extended Care Health Option

AGENCY: Department of Defense.

ACTION: Notice of demonstration.

SUMMARY: This notice provides a 2-year extension of the Department of Defense Enhanced Access to Autism Services Demonstration Project under the Extended Care Health Option for beneficiaries diagnosed with an Autism Spectrum Disorder (ASD). Under the demonstration, the Department implemented a provider model that allows reimbursement for Intensive Behavioral Interventions (IBI) services, in particular, Applied Behavior Analysis, rendered by providers who are not otherwise eligible for reimbursement.

DATES: The demonstration will continue through March 14, 2014.

ADDRESSES: TRICARE Management Activity (TMA), Health Plan Operations, 5111 Leesburg Pike, Suite 810, Falls Church, VA 22041.

FOR FURTHER INFORMATION CONTACT: For questions pertaining to this demonstration project, please contact Mr. Richard Hart at (703) 681-0047.

SUPPLEMENTARY INFORMATION: On December 4, 2007, the Department of Defense published a Notice in the Federal Register (FR) (72 FR 68130) of a TRICARE demonstration to increase access to IBI services. The purpose of the demonstration is to allow the Department to determine whether such a provider model increases access to services, the services are reaching those most likely to benefit from them, the quality of the services rendered meets the standard of care currently accepted by the community of providers, and whether State requirements for licensure or certification of providers of IBI services, where such exists, are being met.

The effective date was 60 days following publication of the Notice, and the demonstration was implemented on March 15, 2008 for a period of 2 years.

Recognizing that the subject of ASDs is complex, in particular, with respect to the number of individuals diagnosed with ASD, the treatment of ASD that generally includes several years of behavior modification through educational services, and the ability of the provider community to increase the number of qualified providers, the Department published a Notice in the Federal Register (FR) (75 FR 8928) on February 26, 2010 that extended the Demonstration through March 14, 2012. The Department has determined that continuation of the demonstration for an additional 2 years is both in the best interest of TRICARE beneficiaries diagnosed with an ASD, and necessary to fully evaluate the effectiveness of the delivery model employed by the demonstration. This will provide the Secretary with sufficient information to make a formal decision regarding the use of that delivery model. The demonstration continues to be authorized by Title 10, United States Code, Section 1092.

Dated: December 21, 2011.
Aaron Siegel,
Alternate OSD Federal Register Liaison Officer, Department of Defense.

[FR Doc. 2011-33064 Filed 12-23-11; 8:45 am]

BILLING CODE 5001-06-P